DEPARTMENT OF JUSTICE

Notice of Proposed Settlement Agreement Under the Oil Pollution Act of 1990

Notice is hereby given that the United States of America, on behalf of the Department of the Interior (“DOI”), acting through the Fish and Wildlife Service, and the State of Indiana, on behalf of the Indiana Department of Natural Resources and the Indiana Department of Environmental Management, (collectively “Trustees”), are providing an opportunity for public comment on a proposed Settlement Agreement among the United States, Indiana, and Marathon Pipe Line, LLC (“Marathon”).

The Settlement Agreement resolves the United States' and Indiana's claims under the Oil Pollution Act of 1990 (“OPA”), 33 U.S.C. 2701 et seq., for injury to natural resources resulting from two oil spills from Marathon pipelines in different parts of the state of Indiana. The first spill occurred on March 20, 2018, when approximately 1,400 barrels (58,800 gallons) of low sulfur diesel fuel was discharged from a Marathon pipeline into Big Creek, near Solitude, Posey County, Indiana (“Big Creek Spill”). The second spill, on April 2, 2019, involved the release of an estimated 300 barrels (12,600 gallons) of natural gasoline from an 8-inch product pipeline owned by Marathon near Knightsville, Clay County, Indiana, impacting soil and a tributary of Billy Creek (“Knightsville Spill”).

The Settlement Agreement requires Marathon to pay $412,780.15 to the DOI Natural Resource Damage Assessment and Restoration Fund. This amount will reimburse past assessment costs and fund the development and implementation of restoration plans to restore, replace, rehabilitate, or acquire the equivalent of those resources injured by the two spills and to compensate the public for any lost recreational opportunities. Marathon will receive from the Trustees a covenant not to sue under OPA or other statutes for natural resource damages caused by the Spills, including damage assessment costs.

The publication of this notice opens a period for public comment on the proposed Settlement Agreement. Comments should be addressed to Daniel W. Sparks, and should refer to: Marathon Settlement Agreement. All comments must be submitted no later than thirty (30) days after the publication date of this notice. Comments may be submitted either by email or by mail:

To submit comments: | Send them to:
By email | daniel_sparks@fws.gov.
By mail | Daniel W. Sparks, Senior Fish and Wildlife Biologist, U.S. Fish and Wildlife Service, 620 S Walker St., Bloomington, IN 47403.

During the public comment period, the Settlement Agreement may be examined and downloaded at this website: https://www.fws.gov/midwest/es/ec/nrda/BigCreekIndiana/Index.html#AdminRecord. We will provide a paper copy of the Settlement Agreement upon written request and payment of reproduction costs. Please mail your request and payment to: Assistant Solicitor, Environmental Restoration Branch, Office of the Solicitor, U.S. Department of the Interior, 1849 C Street NW, MS 6318, Washington, DC 20240.

Please enclose a check or money order for $2.50 (25 cents per page reproduction cost) payable to the United States Treasury.

Patricia McKenna,
Assistant Section Chief, Environmental Enforcement Section, Environment and Natural Resources Division.

[FR Doc. 2020-27679 Filed 12-15-20; 8:45 am]

BILLING CODE 4410-15-P